DEPARTMENT OF THE INTERIOR

National Park Service

[NPS-AKRO-ANIA-DENA-17509; PPAKAKROR4; PPMPRLE1Y.LS0000]

Aniakchak National Monument Subsistence Resource Commission SRC Denali National Park SRC Meeting Dates

AGENCY: National Park Service, Interior.

ACTION: Meeting Notice.

SUMMARY: As required by the Federal Advisory Committee Act (5 U.S.C. Appendix 1-16), the National Park Service (NPS) is hereby giving notice that the Aniakchak National Monument Subsistence Resource Commission (SRC) and Denali National Park SRC, will hold meetings to develop and continue work on NPS subsistence program recommendations, and other related regulatory proposals and resource management issues. The NPS SRC program is authorized under Section 808 of the Alaska National Interest Lands Conservation Act (16 U.S.C. 3118), Title VIII.

Aniakchak National Monument SRC Meeting Dates and Location: The Aniakchak National Monument SRC will meet from 1:00 p.m. to 5:00 p.m. or until business is completed on Friday, February 20, 2015, at the Port Heiden Community in Hall Port Heiden, AK. The meeting is open to the public.

For more detailed information regarding the Aniakchak National Monument SRC meeting, or if you are interested in applying for SRC membership, contact Designated Federal Official Diane Chung, Superintendent, at (907) 246-3305, or via email diane_chung@nps.gov, or Clarence Summers, Subsistence Manager, at (907) 644-3603, or via email clarence_summers@nps.gov.

Denali National Park SRC Meeting/Teleconference Dates and Location: The Denali National Park SRC will meet/teleconference from 9:00 a.m. to 5:00 p.m. or until business is completed on Wednesday, February 25, 2015, at Pike's Waterfront Lodge in Fairbanks, AK. The teleconference will be open to the public. Teleconference participants must call Amy Craver, Subsistence Manager, at (907) 683-9544 or via email amy_craver@nps.gov, by Monday, February 23, 2015, prior to the meeting to receive teleconference passcode information.

For more detailed information regarding the Denali National Park SRC meetings, or if you are interested in applying for SRC membership, contact Designated Federal Official Don Striker, Superintendent, at (907) 683-2294, or via email don_striker@nps.gov, or Clarence Summers, Subsistence Manager, at (907) 644-3603, or via email clarence_summers@nps.gov.

Proposed Meeting Agenda: The agenda may change to accommodate SRC business. The proposed meeting agenda for each meeting includes the following:

1. Call to Order—Confirm Quorum

2. Welcome and Introductions

3. Review and Adoption of Agenda

4. Approval of Minutes

5. Superintendent's Welcome and Review of the Commission Purpose

6. Commission Membership Status

7. SRC Chair and Members' Reports

8. Superintendent's Report—NPS

9. Old Business

10. New Business

11. Federal Subsistence Board Update

12. Alaska Boards of Fish and Game Update

13. National Park Service Reports

a. Ranger Update

b. Resource Management Update

c. Subsistence Manager's Report

14. Public and Other Agency Comments

15. Work Session

16. Set Tentative Date and Location for Next SRC Meeting

17. Adjourn Meeting

SRC meeting locations and dates may change based on inclement weather or exceptional circumstances. If the meeting date and location are changed, the Superintendent will issue a press release and use local newspapers and radio stations to announce the rescheduled meeting.

SUPPLEMENTARY INFORMATION: SRC meetings are open to the public and will have time allocated for public testimony. The public is welcome to present written or oral comments to the SRC. SRC meetings will be recorded and meeting minutes will be available upon request from the Superintendent for public inspection approximately six weeks after the meeting. Before including your address, telephone number, email address, or other personal identifying information in your comment, you should be aware that your entire comment—including your personal identifying information—may be made publicly available at any time. While you may ask us in your comment to withhold your personal identifying information from public review, we cannot guarantee that we will be able to do so.

Dated: January 29, 2015.
Alma Ripps,
Chief, Office of Policy.

[FR Doc. 2015-02099 Filed 2-5-15; 8:45 am]

BILLING CODE 4310-70-P